DEPARTMENT OF COMMERCE

International Trade Administration

[A-570-879]

Notice of Extension of Time Limit for the Antidumping Administrative Review of Polyvinyl Alcohol From the People's Republic of China

AGENCY: Import Administration, International Trade Administration, Department of Commerce.

EFFECTIVE DATE: February 27, 2006.

FOR FURTHER INFORMATION CONTACT: Lilit Astvatsatrian, AD/CVD Operations, Office 8, Import Administration, International Trade Administration, U.S. Department of Commerce, 14th Street and Constitution Avenue, NW., Washington, DC 20230; telephone: (202) 482-6412.

Background

On November 7, 2005, the Department of Commerce (“the Department”) published the preliminary results of the administrative review of the antidumping duty order on polyvinyl alcohol (“PVA”) from the People's Republic of China (“PRC”), covering the period August 11, 2003, through September 30, 2004. See Polyvinyl Alcohol from the People's Republic of China: Preliminary Results of Antidumping Duty Administrative Review, 70 FR 67434 (November 7, 2005) (“Preliminary Results”). In the Preliminary Results we stated that we would make our final determination for the antidumping duty review no later than 120 days after the date of publication of the preliminary results (i.e., March 7, 2006).

Extension of Time Limit of Preliminary Results

Section 751(a)(3)(A) of the Tariff Act of 1930, as amended (“the Act”), requires the Department to issue the final results in an administrative review within 120 days of publication date of the preliminary results. However, if it is not practicable to complete the review within this time period, the Department may extend the time limit for the final results to 180 days. Completion of the final results within the 120-day period is not practicable because this review involves certain complex issues, including the revision of an allocation methodology of co-products, application of by-products and self-produced inputs, and valuation of certain factors.

Therefore, in accordance with section 751(a)(3)(A) of the Act, the Department is extending the time period for issuing the final results of review by 30 days until April 6, 2006.

Dated: February 21, 2006.
Stephen J. Claeys,
Deputy Assistant Secretary for Import Administration.

[FR Doc. E6-2731 Filed 2-24-06; 8:45 am]

BILLING CODE 3510-DS-S